DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) approval of a new information collection. The Federal Register Notice with a 60-day comment period soliciting comments on the following collection of information was published on March 20, 2008, vol. 73, no. 55, page 15042. This project involves the random and representative sampling of Flight Attendants currently employed by U.S. air carriers.

DATES: Please submit comments by August 1, 2008.

FOR FURTHER INFORMATION CONTACT: Carla Mauney at Carla.Mauney@faa.gov.

SUPPLEMENTARY INFORMATION:

Federal Aviation Administration (FAA)

Title: National Flight Attendant Duty/Rest/Fatigue Survey.

Type of Request: Approval of a new collection.

OMB Control Number: 2120-XXXX.

Forms(s): There are no FAA forms associated with this collection.

Affected Public: An estimated 12,000 Respondents.

Frequency: This information is collected annually.

Estimated Average Burden per Response: Approximately 40 minutes per response.

Estimated Annual Burden Hours: An estimated 8,000 hours annually.

Abstract: This project involves the random and representative sampling of Flight Attendants currently employed by U.S. air carriers. The goal of this effort is to identify the type of fatigue that flight attendants experience, the frequency with which they experience fatigue, and the consequences fatigue may have on the safety of U.S. air carriers. The results obtained from this survey are intended to provide information to FAA policy makers regarding flight attendant rest and duty time.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on June 26, 2008.
Carla Mauney,
FAA Information Collection Clearance Officer, IT Enterprises Business Services Division, AES-200.

[FR Doc. E8-15023 Filed 7-1-08; 8:45 am]

BILLING CODE 4910-13-M